DEPARTMENT OF JUSTICE

Notice of Lodging of Proposed Consent Decree Under The Comprehensive Environmental Response, Compensation, and Liability Act (CERCLA)

On February 22, 2021, the Department of Justice lodged a proposed consent order with the United States Bankruptcy Court for the District of New Jersey in the Chapter 11 matter entitled In re: Tri Harbor Holdings Corporation (f/k/a Aceto Corporation), et al., Case No. 19-13448 (VFP).

The consent order relates to liabilities asserted by the United States and the New Jersey Department of Environmental Protection (“NJDEP”) against Arsynco, Inc. (“Arsynco”), under the Comprehensive Environmental Response, Compensation, and Liability Act of 1980, 42 U.S.C. 9601 et seq. (“CERCLA”), for (1) cost recovery on behalf of the United States Environmental Protection Agency (“EPA”), and (2) natural resource damages on behalf of the federal and state natural resource trustees, concerning the Berry's Creek Study Area (“BCSA”) operable unit of the Ventron/Velsicol Superfund Site, located in Bergen County, New Jersey and a 12.3-acre parcel of property located at 511 13th Street in Carlstadt, New Jersey formerly owned by Arsynco.

Under the consent order, the United States shall have an allowed general unsecured claim in the amount of $9,566,000 for EPA's asserted past and future response costs. In addition, the United States, on behalf of the Department of Interior and the National Oceanic Atmospheric Administration, and the State of New Jersey, collectively the “Trustees”, shall have an allowed general unsecured claim in the amount of $8,215,000 for asserted natural resource damages.

The publication of this notice opens a period for public comment on the proposed consent order. Comments should be addressed to the Assistant Attorney General, Environment and Natural Resources Division, Environmental Enforcement Section, and should refer to In re: Tri Harbor Holdings Corporation (f/k/a Aceto Corporation), et al., Case No. 19-13448 (VFP). All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent order may be examined and downloaded at this Justice Department website: https://www.justice.gov/enrd/consent-decrees. We will provide a paper copy of the consent order upon written request and payment of reproduction costs. Please mail your request and payment to: Consent Decree Library, U.S. DOJ—ENRD, P.O. Box 7611, Washington, DC 20044-7611.

Please enclose a check or money order for $6.25 (25 cents per page reproduction cost) payable to the United States Treasury.

Henry S. Friedman,
Assistant Section Chief, Environmental Enforcement Section, Environment and Natural Resources Division.

[FR Doc. 2021-04047 Filed 2-25-21; 8:45 am]

BILLING CODE 4410-15-P